DEPARTMENT OF THE TREASURY

Submission for OMB Review; Comment Request

July 20, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 27, 2001, to be assured of consideration.

Internal Revenue Service (IRS)

OMB Number: 1545-0099.

Form Number: IRS Form 1065, Schedule D and Schedule K-1.

Type of Review: Revision.

Title: U.S. Return of Partnership Income (Form 1065); Capital Gains and Losses (Schedule D); and Partner's Share of Income, Credits, Deductions, etc. (Schedule K-1).

Description: Internal Revenue Code (IRC) section 6031 requires partnerships to file returns that show gross income items, allowable deductions, partner's names, addresses, and distribution shares, and other information. This information is used to verify correct reporting of partnership items and for general statistics.

Respondents: Business or other for-profit, Individuals or households, farms.

Estimated Number of Respondents/Recordkeepers: 1,487,900.

Estimated Burden Hours Per Respondent/Recordkeeper:

Form/Schedule | Recordkeeping | Learning about the law or the form | Preparing the form | Copying, assembling, and sending the form to the IRS
1065 | 41 hr., 54 min | 23 hr., 35 min | 41 hr., 48 min | 4 hr., 1 min
Schedule D (Form 1065) | 6 hr., 56 min | 2 hr., 10 min | 2 hr., 23 min |
Schedule K-1 (Form 1065) | 26 hr., 46 min | 10 hr., 25 min | 11 hr., 19 min
Schedule L (Form 1065) | 15 hr., 32 min | 6 min | 21 min |
Schedule M-1 (Form 1065) | 3 hr., 21 min | 12 min | 16 min |
Schedule M-2 (Form 1065) | 2 hr., 52 min | 6 min | 9 min |

Frequency of Response: Annually.

Estimated Total Reporting/Recordkeeping Burden: 1,211,925,094 hours.

OMB Number: 1545-1173.

Form Number: IRS Form 8815.

Type of Review: Extension.

Title: Exclusion of Interest From Series EE and I U.S. Savings Bonds Issued After 1989.

Description: If an individual redeems series I or series EE U.S. savings bonds issued after 1989 and pays qualified higher education expenses during the year, the interest on the bonds may be excludable from income. Form 8815 is used by the individual to figure the amount of savings bond interest that is excludable.

Respondents: Individuals or households.

Estimated Number of Respondents/Recordkeepers: 25,000.

Estimated Burden Hours Per Respondent/Recordkeeper:

Recordkeeping—53 min.

Learning about the law or the form—13 min.

Preparing the form—38 min.

Copying, assembling, and sending the form to the IRS—20 min.

Frequency of Response: Annually.

Estimated Total Reporting/Recordkeeping Burden: 51,110 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-18704 Filed 7-26-01; 8:45 am]

BILLING CODE 4830-01-P